DEPARTMENT OF ENERGY

Federal Energy Regulatory Commission

Combined Notice of Filings # 1

January 14, 2009.

Take notice that the Commission received the following electric rate filings:

Docket Numbers: ER91-569-043; ER01-666-011; ER02-862-011.

Applicants: Entergy Services, Inc.; EWO Marketing, LP; Entergy Power Ventures, L.P.

Description: Entergy Affiliates submits their response to the FERC's December 23, 2008 letter which constitutes an amendment to the updated market power analysis originally filed on 8/29/08 pursuant to Order 697-A.

Filed Date: 01/13/2009.

Accession Number: 20090114-0097.

Comment Date: 5 p.m. Eastern Time on Tuesday, February 3, 2009.

Docket Numbers: ER98-4159-011; ER98-4159-013; ER98-4159-014; ER07-157-003; ER04-268-008; ER04-268-010; ER04-268-011; ER06-398-005; ER06-398-007; ER06-398-008; ER06-399-005; ER06-399-007; ER06-398-008.

Applicants: Duquesne Light Company; Macquarie Cook Power Inc.; Duquesne Power, LLC; Duquesne Keystone, LLC; Duquesne Conemaugh, LLC.

Description: Duquesne Light Company (Duquesne Companies) respond to FERC's request for additional information re an updated market power analysis and notices of change in status etc.

Filed Date: 01/08/2009.

Accession Number: 20090113-0289.

Comment Date: 5 p.m. Eastern Time on Thursday, January 29, 2009.

Docket Numbers: ER05-168-012; EL05-19-013.

Applicants: New Mexico Cooperatives.

Description: Joint Motion of New Mexico Cooperative for Approval of Payment of Agreed-Upon Base Rate Refund under, et al.

Filed Date: 12/31/2008.

Accession Number: 20081231-5096.

Comment Date: 5 p.m. Eastern Time on Monday, January 26, 2009.

Docket Numbers: ER08-513-002.

Applicants: Entergy Services Inc.

Description: Software Development Progress Report of Entergy Services, Inc.

Filed Date: 01/12/2009.

Accession Number: 20090112-5178.

Comment Date: 5 p.m. Eastern Time on Monday, February 2, 2009.

Docket Numbers: ER09-331-001.

Applicants: Xcel Energy Services Inc.

Description: Xcel Energy Service Inc. on behalf of Southwestern Public Service Company submits an Amendment to their Notices of Cancellation.

Filed Date: 01/12/2009.

Accession Number: 20090114-0005.

Comment Date: 5 p.m. Eastern Time on Monday, February 2, 2009.

Docket Numbers: ER09-382-001.

Applicants: Hay Canyon Wind LLC.

Description: Hay Canyon Wind LLC submits supplemental application with narrative descriptions of its energy-related affiliates and their operations.

Filed Date: 01/12/2009.

Accession Number: 20090114-0006.

Comment Date: 5 p.m. Eastern Time on Thursday, January 22, 2009.

Docket Numbers: ER09-533-000.

Applicants: Portland General Electric Company.

Description: Portland General Electric Co. submits its First Revised Rate Schedule 160, the Colstrip Project Transmission Agreement with Montana Power Company et al. in compliance with the Commission's Letter Order issued on 7/16/08.

Filed Date: 01/12/2009.

Accession Number: 20090113-0296.

Comment Date: 5 p.m. Eastern Time on Monday, February 2, 2009.

Take notice that the Commission received the following open access transmission tariff filings:

Docket Numbers: OA09-16-000.

Applicants: Northeast Utilities Service Company.

Description: NU Companies submits Third Revised Sheet 3212 et al. to FERC Electric Tariff 3 to amend Schedule 21-NU under Section II of the ISO New England Inc Transmission Markets and Services Tariff etc. under OA09-16.

Filed Date: 01/12/2009.

Accession Number: 20090114-0013.

Comment Date: 5 p.m. Eastern Time on Monday, February 2, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-1476 Filed 1-23-09; 8:45 am]

BILLING CODE 6717-01-P